EQUAL EMPLOYMENT OPPORTUNITY COMMISSION

Sunshine Act Meeting; Notice

AGENCY HOLDING THE MEETING: Equal Employment Opportunity Commission.

DATE: Thursday, July 13, 2006, 10 a.m. eastern time.

PLACE: Clarence M. Mitchell, Jr. Conference Room on the Ninth Floor of the EEOC Office Building, 1801 “L” Street, NW., Washington, DC 20507.

STATUS: The meeting will be open to the public.

MATTERS TO BE CONSIDERED:

Open Session

1. Announcement of Notation Votes, and

2. Obligation of Funds for the EEOC National Contact Center—Option Years.

Note: In accordance with the Sunshine Act, the meeting will be open to public observation of the Commission's deliberations and voting. (In addition to publishing notices on EEOC Commission meetings in the Federal Register, the Commission also provides a recorded announcement a full week in advance on future Commission sessions.)

Please telephone (202) 663-7100 (voice) and (202) 663-4074 (TTY) at any time for information on these meetings.

CONTACT PERSON FOR MORE INFORMATION: Stephen Llewellyn, Acting Executive Officer on (202) 663-4070.

Dated: June 30, 2006.
Stephen Llewellyn,
Acting Executive Officer, Executive Secretariat.

[FR Doc. 06-6024 Filed 6-30-06; 2:08 pm]

BILLING CODE 6570-06-M